DEPARTMENT OF ENERGY

Federal Energy Regulatory Commission

Combined Notice of Filings

Take notice that the Commission has received the following Natural Gas Pipeline Rate and Refund Report filings:

Filings Instituting Proceedings

Docket Numbers: RP17-825-000.

Applicants: Alliance Pipeline L.P.

Description: Alliance Pipeline L.P. submits tariff filing per 154.204: Energy America to Direct Energy Business Marketing, LLC to be effective 6/1/2017.

Filed Date: 06/06/2017.

Accession Number: 20170606-5146.

Comment Date: 5:00 p.m. Eastern Time on Monday, June 19, 2017.

Docket Numbers: RP17-826-000.

Applicants: Equitrans, L.P.

Description: Equitrans, L.P. submits tariff filing per 154.203: Notice Regarding Continued Gathering Service (F-543 W-4672 W-4665).

Filed Date: 06/06/2017.

Accession Number: 20170606-5150.

Comment Date: 5:00 p.m. Eastern Time on Monday, June 19, 2017.

Docket Numbers: RP17-549-000.

Applicants: Trailblazer Pipeline Company LLC.

Description: Trailblazer Pipeline Company LLC submits tariff filing per 154.501: Fuel Refund Report in Docket No. RP17-549.

Filed Date: 06/07/2017.

Accession Number: 20170607-5067.

Comment Date: 5:00 p.m. Eastern Time on Monday, June 19, 2017.

Docket Numbers: RP17-827-000.

Applicants: Stagecoach Pipeline & Storage Company LL.

Description: Stagecoach Pipeline & Storage Company LLC submits tariff filing per 154.204: Stagecoach Pipeline & Storage Company LLC—Service Agreement Amendments to be effective 7/1/2017.

Filed Date: 06/07/2017.

Accession Number: 20170607-5048.

Comment Date: 5:00 p.m. Eastern Time on Monday, June 19, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated June 08, 2017.
Kimberly D. Bose,
Secretary.

[FR Doc. 2017-12389 Filed 6-14-17; 8:45 am]

BILLING CODE 6717-01-P